DEPARTMENT OF EDUCATION

Applications for New Awards; Rehabilitation Training: Innovative Rehabilitation Training Program

AGENCY: Office of Special Education and Rehabilitative Services, Department of Education.

ACTION: Notice.

SUMMARY: The U.S. Department of Education (Department) is issuing a notice inviting applications (NIA) for fiscal year (FY) 2020 for the Innovative Rehabilitation Training program, Catalog of Federal Domestic Assistance (CFDA) number 84.263D/E/F. These competitions fund time-limited training projects to develop, refine, implement, evaluate, and disseminate innovative methods of training vocational rehabilitation (VR) personnel and Client Assistance Program (CAP) personnel to support the work of the State VR agencies and the implementation of the Rehabilitation Act of 1973, as amended by the Workforce Innovation and Opportunity Act (Rehabilitation Act). In the FY 2020 competitions, the Department is focusing on innovative rehabilitation training in the following areas: CAP (84.263D); assisting and supporting individuals with disabilities pursuing self-employment, business ownership, and telecommuting (84.263E); and field-initiated projects in an area related to VR (84.263F). This notice relates to the approved information collection under OMB control number 1820-0018.

DATES:

Applications Available: August 6, 2020.

Deadline for Transmittal of Applications: September 3, 2020.

Date of Pre-Application Meeting: The Office of Special Education and Rehabilitative Services (OSERS) will post a PowerPoint presentation that provides general information related to RSA's discretionary grant competitions and a PowerPoint presentation specifically related to this Innovative Rehabilitation Training program competition at https://ncrtm.ed.gov/RSAGrantInfo.aspx. OSERS will conduct a pre-application meeting specific to this competition via conference call to respond to questions. Information about the pre-application meeting will be available at https://ncrtm.ed.gov/RSAGrantInfo.aspx prior to the date of the call. OSERS invites you to send questions to 84.263DEF@ed.gov in advance of the pre-application meeting. The teleconference information, including the 84.263D/E/F pre-application meeting summary of the questions and answers, will be available at https://ncrtm.ed.gov/RSAGrantInfo.aspx within six days after the pre-application meeting.

ADDRESSES: For the addresses for obtaining and submitting an application, please refer to our Common Instructions for Applicants to Department of Education Discretionary Grant Programs, published in the Federal Register on February 13, 2019 (84 FR 3768) and available at www.govinfo.gov/content/pkg/FR-2019-02-13/pdf/2019-02206.pdf.

FOR FURTHER INFORMATION CONTACT: Cassandra P. Shoffler, U.S. Department of Education, 400 Maryland Avenue SW, Room 5065A, Potomac Center Plaza, Washington, DC 20202-2800. Telephone: (202) 245-7827. Email: 84.263DEF@ed.gov.

If you use a telecommunications device for the deaf (TDD) or a text telephone (TTY), call the Federal Relay Service (FRS), toll free, at 1-800-877-8339.

SUPPLEMENTARY INFORMATION:

Full Text of Announcement

I. Funding Opportunity Description

Purpose of Program: The Innovative Rehabilitation Training program is designed to develop (a) new types of training programs for rehabilitation personnel and to demonstrate the effectiveness of these new types of training programs for rehabilitation personnel in providing rehabilitation services to individuals with disabilities; (b) new and improved methods of training rehabilitation personnel so that there may be a more effective delivery of rehabilitation services to individuals with disabilities by designated State rehabilitation agencies and designated State rehabilitation units or other public or non-profit rehabilitation service agencies or organizations; and (c) new innovative training programs for VR professionals and paraprofessionals to have a 21st-century understanding of the evolving labor force and the needs of individuals with disabilities so they can more effectively provide VR services to individuals with disabilities. Projects must be awarded and operated in a manner consistent with the nondiscrimination requirements contained in the U.S. Constitution and the Federal civil rights laws.

Priorities: This competition includes three absolute priorities and two competitive preference priorities.

The absolute priorities are from the notice of final priorities for this program (NFP) published elsewhere in this issue of the Federal Register. Competitive Preference Priority 1 is from the Secretary's Final Supplemental Priorities and Definitions for Discretionary Grant Programs (Supplemental Priorities) published in the Federal Register on March 2, 2018 (83 FR 9096). Competitive Preference Priority 2 is from the Secretary's Final Administrative Priorities for Discretionary Grant Programs (Administrative Priorities) published in the Federal Register on March 9, 2020 (85 FR 13640).

Absolute Priorities: For FY 2020, and any subsequent year in which we make awards from the list of unfunded applications from this competition, these priorities are absolute priorities. Under 34 CFR 75.105(c)(3), we consider only applications that meet one of these priorities. Applicants must identify the specific absolute priority under which they are applying as part of the competition title on the application cover sheet (SF form 424, line 4). Applicants must submit separate applications if applying under more than one priority.

These priorities are:

Absolute Priority 1—Innovative Rehabilitation Training Program: Client Assistance Program.

A project under this priority must increase the CAP professionals' knowledge about all requirements governing the CAP program and VR services under the Rehabilitation Act, while also increasing the capacity of CAP professionals to inform VR clients and applicants about the expanded opportunities available under the Workforce Innovation and Opportunity Act (WIOA) and provide the assistance and advocacy that the clients and applicants need. The project must enhance CAP professionals' knowledge, skills, and competencies in each of the following required subject areas: (a) CAP responsibilities in section 112 of the Rehabilitation Act and the VR service provision requirements in the Rehabilitation Act, particularly in support of the implementation of key provisions of WIOA; (b) expanded opportunities for quality employment under WIOA and the pertinent provisions regarding unified and combined State plans, common performance measures, and the workforce development system, including pre-employment transition services, work-based learning, apprenticeships, customized employment, career pathways, and postsecondary credentials, including advanced degrees; (c) opportunities and challenges for individuals with the most significant disabilities, students and youth with disabilities, and traditionally underserved populations, including those at the intersection of poverty and disability; (d) program and fiscal management training to promote the effective use of Federal and non-Federal resources under the Rehabilitation Act; and (e) leadership, relationship-building, outreach, and individuals and systems advocacy skills to promote effective interaction by CAP professionals with VR clients and applicants, State VR agencies, State Rehabilitation Councils, and other important stakeholders.

The project must develop a new or substantially improved training program meeting the professional needs and the required knowledge, skills, and competencies of CAP professionals. The CAP training program will consist of established, stand-alone training modules, and ad hoc training activities developed in response to emerging circumstances or trends. Stand-alone training modules may include selected topics that can be incorporated into existing academic degree or short-term VR training programs, for example, to promote greater understanding among VR professionals and paraprofessionals about the CAP program and the individuals that it serves.

The CAP training program will also encompass ongoing technical assistance related to topics addressed in the training modules and ad hoc training activities, including consultation and technical assistance on options for applying existing law, regulations, and RSA-issued guidance to specific factual circumstances that arise in the course of CAP professionals' individual or systems advocacy efforts.

Training delivery methods must encompass: (a) State-of-the-art communication tools and platforms, including an interactive project website, distance learning and convening technologies, social media, and searchable databases; and (b) the latest knowledge translation methods and techniques, including engaging training recipients with different learning styles.

The project must develop an overall training plan specifying the major components (e.g., training modules, ad hoc training activities, and ongoing technical assistance), informational resources (e.g., curricula, materials, searchable databases, communities of practice), and modes of delivery (e.g., in-person, virtual). The training plan must be based on the identified training needs of CAP professionals to effectively carry out the CAP responsibilities under title IV, section 112 of the Rehabilitation Act.

The training modules must be developed by the end of the first year of the project period and piloted, refined, implemented, evaluated, and disseminated in years two, three, four, and five of the project period. The ad hoc training activities and technical assistance will be developed on any ongoing basis in response to circumstances and emerging needs.

A process for continuous feedback, evaluation, and improvement to ensure that the training modules, the ad hoc training activities, and technical assistance are responsive to the needs of CAP professionals throughout years two, three, four, and five must be included. This process may include surveys, success stories, and analyses of selected data elements of the Annual CAP Performance Report (RSA-227).

The training and technical assistance must be of sufficient scope, intensity, and duration for CAP professionals to achieve increased skill, knowledge, and competence in the topic areas.

The applicant must review and incorporate the resources developed by the RSA VR Technical Assistance Centers and Demonstration and Training projects, available at the National Clearinghouse for Rehabilitation Training Materials, and other Federal and nongovernment sources, as appropriate, in developing its training and technical assistance curricula and delivery methods.

Training and technical assistance activities also must be coordinated with the entity providing training and technical assistance to the Protection and Advocacy of Individual Rights program, consistent with section 509 of the Rehabilitation Act.

Absolute Priority 2—Innovative Rehabilitation Training Program: Assisting and Supporting Individuals with Disabilities Pursuing Self-Employment, Business Ownership, and Telecommuting.

A project in the area of assisting and supporting individuals with disabilities pursuing self-employment, business ownership, and telecommuting must develop a new or substantially improved and, to the extent possible, evidence-based ¹ training program, including stand-alone modules and instructional materials to be incorporated into an existing academic degree program for educating VR counselors or other VR professionals and paraprofessionals or into short-term training for VR professionals, or both. The training program or modules must be developed by the end of the first year of the project period and piloted, refined, implemented, evaluated, and disseminated in years two, three, four, and five of the project period. A process for continuous feedback, evaluation, and improvement to ensure the training program or modules are responsive to the needs of the VR professionals and paraprofessionals throughout years two, three, four, and five must be included. This process may include evidence collected from surveys or success stories or other forms of evidence.

¹ For the purpose of this priority, “evidence-based” means the proposed project component is supported, at a minimum, by evidence that demonstrates a rationale (as defined in 34 CFR 77.1), where a key project component included in the project's logic model (as defined in 34 CFR 77.1) is informed by research or evaluation findings that suggest the project component is likely to improve relevant outcomes (as defined in 34 CFR 77.1).

The training must be of sufficient scope, intensity, and duration for VR professionals, paraprofessionals, and individuals studying to become VR professionals and paraprofessionals to achieve increased skill, knowledge, and competence in the area of assisting and supporting individuals with disabilities pursuing self-employment, business ownership, and telecommuting.

Absolute Priority 3—Innovative Rehabilitation Training Program: Field Initiated.

A field-initiated project must clearly identify the topic to be addressed and provide sufficient evidence to demonstrate the need for the innovative rehabilitation training in a proposed new topic area or, in areas for which there is existing training, demonstrate that the existing training is not adequately meeting the needs of VR professionals, paraprofessionals, and individuals studying to become VR professionals and paraprofessionals.

The project must develop a new or substantially improved and, to the extent possible, evidence-based ² training program, including stand-alone modules and instructional materials to be incorporated into an existing academic degree program for educating VR counselors or other VR professionals and VR paraprofessionals, or into short-term training for VR professionals, or both. The training program or modules must be developed by the end of the first year of the project period and piloted, refined, implemented, evaluated, and disseminated in years two, three, four, and five of the project period. A process for continuous feedback, evaluation, and improvement to ensure the training program or modules are responsive to the needs of the VR professionals and paraprofessionals throughout years two, three, four, and five must be included. This process may include surveys or success stories.

² For the purpose of this priority, “evidence-based” means the proposed project component is supported, at a minimum, by evidence that demonstrates a rationale (as defined in 34 CFR 77.1), where a key project component included in the project's logic model (as defined in 34 CFR 77.1) is informed by research or evaluation findings that suggest the project component is likely to improve relevant outcomes (as defined in 34 CFR 77.1)

The training must be of sufficient scope, intensity, and duration for VR professionals, paraprofessionals, and individuals studying to become VR professionals and paraprofessionals to achieve increased skill, knowledge, and competence in the topic area.

Competitive Preference Priorities: For FY 2020 and any subsequent year in which we make awards from the list of unfunded applications from this competition, these priorities are competitive preference priorities. Under 34 CFR 75.105(c)(2)(i), we award an additional three points to an application that meets paragraph (a) of Competitive Preference Priority 1 or an additional five points to an application that meets paragraph (b) of Competitive Preference Priority 1, and an additional two points to an application that meets Competitive Preference Priority 2, for a maximum of seven additional points under the competitive preference priorities.

These priorities are:

Competitive Preference Priority 1— Promoting Innovation and Efficiency, Streamlining Education With an Increased Focus on Improving Student Outcomes, and Providing Increased Value to Students and Taxpayers. (3 or 5 points)

Projects that are designed to demonstrate matching support for the proposed projects:

(a) 50 percent of the total amount of the grant (3 points); or

(b) 100 percent of the total amount of the grant (5 points).

Note: This competitive preference priority match is not mandatory, but if an applicant responds to and meets the criteria outlined in Competitive Preference Priority 1, an additional three or five points will be applied to the application score. Under 34 CFR 387.40, cost sharing of at least 10 percent of the total cost of the project is mandatory of all grantees under the Innovative Rehabilitation Training program. Please see the Cost Sharing and Matching section under part III of this notice.

Competitive Preference Priority 2—Applications From New Potential Grantees. (2 points).

(a) Under this priority, an applicant must demonstrate one or more of the following:

(i) The applicant has never received a grant, including through membership in a group application submitted in accordance with 34 CFR 75.127-75.129, under the Innovative Training program.

(ii) The applicant does not, as of the deadline date for submission of applications, have an active grant, including through membership in a group application submitted in accordance with 34 CFR 75.127-75.129, under the Innovative Training program.

(iii) The applicant has not had an active discretionary grant under the Innovative Training program, including through membership in a group application submitted in accordance with 34 CFR 75.127-75.129, in the five years before the deadline date for submission of applications under the program.

(iv) The applicant has not had an active discretionary grant from the Department, including through membership in a group application submitted in accordance with 34 CFR 75.127-75.129, in the five years before the deadline date for submission of applications under the Innovative Training program.

(v) The applicant has not had an active contract from the Department in the five years before the deadline date for submission of applications under the Innovative Training program.

(b) For the purpose of this priority, a grant or contract is active until the end of the grant's or contract's project or funding period, including any extensions of those periods that extend the grantee's or contractor's authority to obligate funds.

Program Authority: 29 U.S.C. 772.

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The regulations for this program in 34 CFR parts 385 and 387. (e) The NFP. (f) The Supplemental Priorities. (g) The Administrative Priorities.

Note: The regulations in 34 CFR part 79 apply to all applicants except federally recognized Indian Tribes.

Note: The regulations in 34 CFR part 86 apply to institutions of higher education only.

II. Award Information

Type of Award: Discretionary grants.

Estimated Available Funds: $ 1,350,000.

Contingent upon the availability of funds and the quality of applications, we may make additional awards in subsequent years from the list of unfunded applications from this competition.

Estimated Range of Awards: $425,000—$450,000.

Maximum Award: We will not make an award exceeding $450,000 for a single budget period of 12 months.

Estimated Number of Awards: 3.

Note: The Secretary intends to fund a total of three projects in FY 2020, including one project from each of the two identified topic areas and one in the field-initiated area, provided that we receive applications of sufficient quality under each of the priorities. As a result, the Secretary may fund applications out of rank order.

Note: The Department is not bound by any estimates in this notice.

Note: Under 34 CFR 75.562(c), an indirect cost reimbursement on a training grant is limited to the recipient's actual indirect costs, as determined by its negotiated indirect cost rate agreement, or 8 percent of a modified total direct cost base, whichever amount is less. Indirect costs in excess of the limit may not be charged directly, used to satisfy matching or cost-sharing requirements, or charged to another Federal award.

Project Period: Up to 60 months.

III. Eligibility Information

1. Eligible Applicants: States and public or private nonprofit agencies and organizations, including Indian Tribes and institutions of higher education.

2. Cost Sharing or Matching: A grantee must contribute to the cost of a project under this program in an amount satisfactory to the Secretary. The part of the costs to be borne by the grantee is determined by the Secretary at the time of the grant award. For the purposes of this competition, the grantee is required to contribute at least 10 percent of the total cost of the project under this program. Furthermore, given the importance of cost sharing funds to the long-term success of the project, eligible entities must identify appropriate non-Federal funds in the proposed budget.

3. Subgrantees: Under 34 CFR 75.708(b) and (c) a grantee under this competition may not award subgrants to entities to directly carry out project activities described in its application. Under 34 CFR 75.708(e), a grantee may contract for supplies, equipment, and other services in accordance with 2 CFR part 200.

IV. Application and Submission Information

1. Application Submission Instructions: Applicants are required to follow the Common Instructions for Applicants to Department of Education Discretionary Grant Programs, published in the Federal Register on February 13, 2019 (84 FR 3768) and available at www.govinfo.gov/content/pkg/FR-2019-02-13/pdf/2019-02206.pdf, which contain requirements and information on how to submit an application.

2. Submission of Proprietary Information: Given the types of projects that may be proposed in applications for the Innovative Rehabilitation Training competition, your application may include business information that you consider proprietary. In 34 CFR 5.11 we define “business information” and describe the process we use in determining whether any of that information is proprietary and, thus, protected from disclosure under Exemption 4 of the Freedom of Information Act (5 U.S.C. 552, as amended).

Because we plan to make successful applications available to the public, you may wish to request confidentiality of business information.

Consistent with Executive Order 12600, please designate in your application any information that you believe is exempt from disclosure under Exemption 4. In the appropriate Appendix section of your application, under “Other Attachments Form,” please list the page number or numbers on which we can find this information. For additional information please see 34 CFR 5.11(c).

3. Intergovernmental Review: This competition is subject to Executive Order 12372 and the regulations in 34 CFR part 79. However, under 34 CFR 79.8(a), we waive intergovernmental review in order to make an award by the end of FY 2020.

4. Funding Restrictions: We reference regulations outlining funding restrictions in the Applicable Regulations section of this notice.

5. Recommended Page Limit: The application narrative (Part III of the application) is where you, the applicant, address the selection criteria that reviewers use to evaluate your application. We recommend that you (1) limit the application narrative to no more than 45 pages and (2) use the following standards:

• A “page” is 8.5″ × 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial.

The recommended page limit does not apply to Part I, the cover sheet; Part II, the budget section, including the narrative budget justification; Part IV, the assurances and certifications; or the one-page abstract, the resumes, the bibliography, or the letters of support. However, the recommended page limit does apply to all of the application narrative.

V. Application Review Information

1. Selection Criteria: The selection criteria for this competition are from 34 CFR 387.30 and 34 CFR 75.210, and are as follows:

(a) Relevance to State-Federal rehabilitation service program. (10 points)

(1) The Secretary reviews each application for information that shows that the proposed project appropriately relates to the mission of the State-Federal rehabilitation service program.

(2) The Secretary looks for information that shows that the project can be expected either—

(i) To increase the supply of trained personnel available to public and private agencies involved in the rehabilitation of individuals with disabilities; or

(ii) To maintain and improve the skills and quality of rehabilitation personnel.

(b) Nature and scope of curriculum. (10 points)

(1) The Secretary reviews each application for information that demonstrates the adequacy and scope of the proposed curriculum.

(2) The Secretary looks for information that shows that—

(i) The curriculum and teaching methods provide for an integration of theory and practice relevant to the educational objectives of the program; and

(ii) The didactic coursework includes student exposure to vocational rehabilitation processes, concepts, programs, and services.

(c) Need for project and significance. (10 points)

(1) The Secretary considers the need for and significance of the proposed project.

(2) In determining the need for and significance of the proposed project, the Secretary considers the following factors:

(i) The extent to which the proposed project will prepare personnel for fields in which shortages have been demonstrated.

(ii) The potential contribution of the proposed project to increased knowledge or understanding of rehabilitation problems, issues, or effective strategies.

(iii) The potential contribution of the proposed project to the development and advancement of theory, knowledge, and practices in the field of study.

(d) Quality of the project design. (10 points)

(1) The Secretary considers the quality of the design of the proposed project.

(2) In determining the quality of the design of the proposed project, the Secretary considers the following factors:

(i) The extent to which the goals, objectives, and outcomes to be achieved by the proposed project are clearly specified and measurable.

(ii) The extent to which performance feedback and continuous improvement are integral to the design of the proposed project.

(e) Quality of project services and personnel. (20 points)

(1) The Secretary considers the quality of the project services to be provided by the proposed project and the personnel who will carry out the proposed project.

(2) In determining the quality of the services to be provided by the proposed project, the Secretary considers the quality and sufficiency of strategies for ensuring equal access and treatment for eligible project participants who are members of groups that have traditionally been underrepresented based on race, color, national origin, gender, age, or disability.

(3) In determining the quality of project personnel, the Secretary considers the extent to which the applicant encourages applications for employment from persons who are members of groups that have traditionally been underrepresented based on race, color, national origin, gender, age, or disability.

(4) In addition, the Secretary considers the following factors:

(i) The extent to which the training or professional development services to be provided by the proposed project are of sufficient quality, intensity, and duration to lead to improvements in practice among the recipients of those services.

(ii) The extent to which the training or professional development services to be provided by the proposed project are likely to alleviate the personnel shortages that have been identified or are the focus of the proposed project.

(iii) The qualifications, including relevant training and experience, of the project director or principal investigator.

(iv) The qualifications, including relevant training and experience, of key project personnel.

(f) Adequacy of resources. (15 points)

(1) The Secretary considers the adequacy of resources for the proposed project.

(2) In determining the adequacy of resources for the proposed project, the Secretary considers the following factors:

(i) The relevance and demonstrated commitment of each partner in the proposed project to the implementation and success of the project.

(ii) The extent to which the costs are reasonable in relation to the number of persons to be served and to the anticipated results and benefits.

(iii) The potential for the incorporation of project purposes, activities, or benefits into the ongoing program of the agency or organization at the end of the Federal funding.

(g) Quality of the management plan. (10 points)

(1) The Secretary considers the quality of the management plan for the proposed project.

(2) In determining the quality of the management plan for the proposed project, the Secretary considers the following factors:

(i) The adequacy of the management plan to achieve the objectives of the proposed project on time and within budget, including clearly defined responsibilities, timelines, and milestones for accomplishing project tasks.

(ii) The adequacy of procedures for ensuring feedback and continuous improvement in the operation of the proposed project.

(h) Quality of project evaluation. (15 points)

(1) The Secretary considers the quality of the evaluation to be conducted of the proposed project.

(2) In determining the quality of the evaluation, the Secretary considers the following factors:

(i) The extent to which the methods of evaluation are thorough, feasible, and appropriate to the goals, objectives, and outcomes of the proposed project.

(ii) The extent to which the evaluation will provide guidance about effective strategies suitable for replication or testing in other settings.

(iii) The extent to which the methods of evaluation will provide performance feedback and permit periodic assessment of progress toward achieving intended outcomes.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

When reviewing prior performance under 34 CFR 75.217(d)(3) and conducting risk assessments pursuant to 2 CFR 200.205, the Secretary will consider factors such as whether applicants have demonstrated sufficient institutional capacity through the commitment of adequate resources, as described in the selection criteria, and suitable past performance to fully implement multiple awards. In reviewing capacity, the Secretary will consider factors such as whether potential grantees have demonstrated sufficient staffing, an adequate pool of potential scholars, and existing relationships with VR and related agencies to place scholars from multiple grants in appropriate internships. Based on these reviews, the Secretary will take appropriate action under 34 CFR 75.217(d)(3), 2 CFR 200.205, and 2 CFR 3474.10, before making awards to a grantee.

3. Risk Assessment and Specific Conditions: Consistent with 2 CFR 200.205, before awarding grants under this competition the Department conducts a review of the risks posed by applicants. Under 2 CFR 3474.10, the Secretary may impose specific conditions and, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.205(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

VI. Award Administration Information

1. Award Notices: If your application is successful, we notify your U.S.

Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit semiannual and annual performance reports that provide the most current performance and financial expenditure information as directed by the Secretary under 34 CFR 75.118. The Secretary may also require more frequent performance reports under 34 CFR 75.720(c). For specific requirements on reporting, please go to www.ed.gov/fund/grant/apply/appforms/appforms.html.

5. Performance Measures: The Government Performance and Results Act of 1993 (GPRA) directs Federal departments and agencies to improve the effectiveness of their programs by engaging in strategic planning, setting outcome-related goals for programs, and measuring program results against those goals.

The performance measures for this program are as follows:

(1) The number of individuals enrolled or participating in the Innovative Rehabilitation Training program, by cohort, during the reporting period.

(2) The number and percentage of individuals who successfully completed the Innovative Rehabilitation Training program, by cohort, during the reporting period.

Note: Topic Area 1—Innovative Rehabilitation Training Project, Client Assistance Program. For performance measures (1) and (2), above, CAP personnel are not enrolled as in other programs. Therefore, the number of individuals participating in the Innovative Rehabilitation Training program activities during the reporting period will be reported; and the number and percentage of individuals who complete the Innovative Rehabilitation Training program activities during the reporting period will be reported.

The GPRA measures are as follows:

(1) The quality of the training developed, as measured by a panel of VR agencies.

(2) The relevance of the training developed, as measured by a panel of VR agencies.

(3) The usefulness of the training developed, as measured by a panel of VR agencies.

Note: For Topic Area 1—Client Assistance Program, quality, relevance, and usefulness will be measured by a panel of rehabilitation educators and individuals who are knowledgeable about CAP.

Innovative Rehabilitation Training program grantees must report the following quantitative and qualitative data:

(a) Program activities that occurred during each fiscal year from October 1 to March 31 and projected program activities to occur from April 1 to September 30 should be included in the semiannual performance report.

(b) Program activities that occur during years 2-5 from October 1 to September 30 should be included in the annual performance report.

Annual project progress toward meeting project goals must be posted on the project website or university website.

6. Continuation Awards: In making a continuation award under 34 CFR 75.253, the Secretary considers, among other things: Whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: Individuals with disabilities can obtain this document and a copy of the application package in an accessible format (e.g., braille, large print, audiotape, or compact disc) on request to the program contact person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Mark Schultz,
Commissioner, Rehabilitation Services Administration, Delegated the authority to perform the functions and duties of the Assistant Secretary for the Office of Special Education and Rehabilitative Services.

[FR Doc. 2020-16959 Filed 8-4-20; 4:15 pm]

BILLING CODE 4000-01-P